DEPARTMENT OF DEFENSE

Office of the Secretary

[Transmittal No. 17-56]

Arms Sales Notification

AGENCY: Defense Security Cooperation Agency, Department of Defense.

ACTION: Arms sales notice.

SUMMARY: The Department of Defense is publishing the unclassified text of a section 36(b)(1) arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-56 with attached Policy Justification and Sensitivity of Technology.

Dated: March 6, 2018.
Aaron Siegel,
Alternate OSD Federal Register Liaison Officer, Department of Defense.

BILLING CODE 5001-06-P

BILLING CODE 5001-06-C

Transmittal No. 17-56

Notice of Proposed Issuance of Letter of Offer Pursuant to Section 36(b)(1) of the Arms Export Control Act, as amended

(i) Prospective Purchaser: Government of Kuwait

(ii) Total Estimated Value:

Major Defense Equipment * | $ 2.6 million
Other | $97.4 million
Total | $100.0 million

(iii) Description and Quantity or Quantities of Articles or Services under Consideration for Purchase: The Government of Kuwait has requested the possible sale of fifteen (15) 13.6 meter Fast Patrol Boats.

Major Defense Equipment (MDE): Thirty-six (36) .50 Caliber Machine Guns (thirty (30) installed, two (2) per boat and six (6) spares)

Non-MDE: This request includes fifteen (15) 13.6 meter Fast Patrol Boats outfitted with support equipment, and personnel training and training equipment, U.S. Government and contractor engineering, technical and logistics support services, and other related elements of logistical and program support.

(iv) Military Department: Navy (KU-P-SBK)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 20, 2018

*As defined in Section 47(6) of the Arms Export Control Act.

POLICY JUSTIFICATION

Government of Kuwait—Fast Patrol Boats

The Government of Kuwait has requested to purchase fifteen (15) fast patrol boats outfitted with thirty-six (36) .50 caliber machine guns (thirty (30) installed, two (2) per boat and six (6) spares). This request also includes support equipment, personnel training and training equipment, U.S. Government and contractor engineering, technical and logistics support services, and other related elements of logistical and program support. The estimated total case value is $100 million.

This proposed sale will contribute to the foreign and national security of the United States by improving the security of a friendly country. Kuwait plays a key role in U.S. efforts to advance stability in the Middle East, providing basing, access, and transit of U.S. forces in the region.

Kuwait intends to use the boats for patrol, interdiction, and maritime protection. These boats will help Kuwait develop and maintain a strong and ready self-defense capability. Kuwait will have no difficulty absorbing this equipment into its armed forces.

The proposed sale of this equipment and support will not alter the basic military balance in the region.

The prime contractor will be Kvichak (a Vigor Company), Kent, Washington. There are no known offset agreements proposed in connection with this potential sale.

Implementation of this proposed sale will require multiple trips by U.S. Government and contractor representatives to participate in program and technical reviews plus training and maintenance support in country, on a temporary basis, for a period of twenty-four (24) months. It will also require three (3) contractor representatives to reside in country for a period of two (2) years to support this program.

There will be no adverse impact on U.S. defense readiness as a result of this proposed sale.

Transmittal No. 17-56

Notice of Proposed Issuance of Letter of Offer Pursuant to Section 36(b)(1) of the Arms Export Control Act

Annex

Item No. vii

(vii) Sensitivity of Technology:

1. The following components and technical documentation for the program are classified as listed below:

a. The Browning M2 .50 caliber machine gun is an automatic, recoil operated, air-cooled machine gun which has been modified for shipboard use. Its classification level is UNCLASSIFIED.

b. The Fast Patrol Boat is a 13.6 meter (45-foot) utility boat used by the United States Coast Guard as a Response Boat Medium (RB-M). The boats are built by Kvichak Marine Industries of Kent, Washington and Marinette Marine Corporation of Marinette, Wisconsin. While primarily designed as a Search and Rescue (SAR) asset the RB-M is also used to perform Recreational Boating Safety (RBS), Marine Environmental Protection (MEP), Enforcement of Laws and Treaties (ELT), Ports, Waterways, and Coastal Security (PWCS) and Defense Operations (DO), including those traditional missions associated with Border Protection. The RB-M is powered by two MTU Detroit Diesel turbocharged Series 60 engines (825 hp) and two Rolls-Royce FF-Series waterjets with a top speed of 42.5 knots and a range of 250nm. The RB-Ms classification level is UNCLASSIFIED.

2. All defense articles and services listed in this transmittal are authorized for release and export to the Government of the Kuwait.

[FR Doc. 2018-04784 Filed 3-8-18; 8:45 am]

BILLING CODE 5001-06-P